ENVIRONMENTAL PROTECTION AGENCY

40 CFR Chapters I, IV, V, VI, and VII

[EPA-HQ-OA-2017-0190; FRL-9961-60-OP]

Evaluation of Existing Regulations

AGENCY: Environmental Protection Agency (EPA).

ACTION: Request for comment.

SUMMARY: In accordance with Executive Order 13777, “Enforcing the Regulatory Reform Agenda,” EPA is seeking input on regulations that may be appropriate for repeal, replacement, or modification.

DATES: Comments must be received on or before May 15, 2017.

ADDRESSES: Submit your comments, identified by Docket ID No. EPA-HQ-OA-2017-0190 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: For further information on this document, please contact Sarah Rees, Director, Office of Regulatory Policy and Management, Office of Policy, 1200 Pennsylvania Avenue NW., Mail Code 1803A, Washington, DC 20460, Phone: (202) 564-1986; Laws-Regs@epa.gov.

SUPPLEMENTARY INFORMATION: On February 24, 2017, President Trump signed Executive Order 13777, “Enforcing the Regulatory Reform Agenda,” which established a federal policy “to alleviate unnecessary regulatory burdens” on the American people. Section 3(a) of the EO directs federal agencies to establish a Regulatory Reform Task Force (Task Force). One of the duties of the Task Force is to evaluate existing regulations and “make recommendations to the agency head regarding their repeal, replacement, or modification.” The EO further asks that each Task Force “attempt to identify regulations that:

(i) Eliminate jobs, or inhibit job creation;

(ii) are outdated, unnecessary, or ineffective;

(iii) impose costs that exceed benefits;

(iv) create a serious inconsistency or otherwise interfere with regulatory reform initiatives and policies;

(v) are inconsistent with the requirements of section 515 of the Treasury and General Government Appropriates Act, 2001 (44 U.S.C. 3516 note), or the guidance issued pursuant to that provision in particular those regulations that rely in whole or in part on data, information, or methods that are not publicly available or that are insufficiently transparent to meet the standard of reproducibility; or

(vi) derive from or implement Executive Orders or other Presidential directives that have been subsequently rescinded or substantially modified.”

Section 3(e) of the E.O. calls on the Task Force to “seek input and other assistance, as permitted by law, from entities significantly affected by Federal regulations, including State, local, and tribal governments, small businesses, consumers, non-governmental organizations, and trade associations” on regulations that meet some or all of the criteria above. Through this notice, EPA is soliciting such input from the public to inform its Task Force's evaluation of existing regulations. EPA requests that commenters be as specific as possible, include any supporting data or other information such as cost information, provide a Federal Register (FR) or Code of Federal Regulations (CFR) citation when referencing a specific regulation, and provide specific suggestions regarding repeal, replacement or modification. Although the agency will not respond to individual comments, the EPA values public feedback and will give careful consideration to all input that it receives. EPA will also be conducting outreach on this same topic. Information about opportunities for engagement with the agency will be available on https://www.epa.gov/laws-regulations/regulatory-reform.

Dated: April 10, 2017.
Samantha K. Dravis,
Regulatory Reform Officer and Associate Administrator, Office of Policy.

[FR Doc. 2017-07500 Filed 4-12-17; 8:45 am]

BILLING CODE 6560-50-P